DEPARTMENT OF HOMELAND SECURITY

Coast Guard

33 CFR Part 117

[Docket No. USCG-2011-0937]

Drawbridge Operation Regulation; Black River, La Crosse, WI

AGENCY: Coast Guard, DHS.

ACTION: Notice of temporary deviation from regulations; request for comments.

SUMMARY: The Coast Guard has issued a temporary deviation from the operating schedule that governs the Canadian Pacific Railroad Drawbridge across the Black River, at Mile 1.0, near La Crosse, Wisconsin. This deviation is related to a Notice of Proposed Rulemaking (NPRM) under the same docket number and will test a change to the drawbridge operation schedule to determine whether a permanent change to the schedule is needed as proposed by the NPRM. This deviation will allow remote operation of the drawspan. Remote operation will enable the bridge to open on demand, instead of with a two-hour delay as it is currently operated when the on-site bridge tender is present.

DATES: This deviation is effective from 12:01 a.m. on June 15, 2012 to 11:59 p.m. on July 15, 2012. Comments and related material must be received by the Coast Guard by August 15, 2012.

ADDRESSES: You may submit comments identified by docket number USCG-2011-0937 using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC, 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this rule, call or email Mr. Eric Washburn, Bridge Administrator, Western Rivers, (314) 269-2378, email Eric.Washburn@uscg.mil. If you have questions on viewing or submitting material to the docket, call Renee V. Wright, Program Manager, Docket Operations, telephone 202-366-9826.

SUPPLEMENTARY INFORMATION:

Public Participation and Request for Comments

We encourage you to participate in this rulemaking by submitting comments and related materials. All comments received will be posted without change to http://www.regulations.gov and will include any personal information you have provided.

1. Submitting Comments

If you submit a comment, please include the docket number for this rulemaking, indicate the specific section of this document to which each comment applies, and provide a reason for each suggestion or recommendation. You may submit your comments and material online at http://www.regulations.gov, or by fax, mail, or hand delivery, but please use only one of these means. If you submit a comment online, it will be considered received by the Coast Guard when you successfully transmit the comment. If you fax, hand deliver, or mail your comment, it will be considered as having been received by the Coast Guard when it is received at the Docket Management Facility. We recommend that you include your name and a mailing address, an email address, or a telephone number in the body of your document so that we can contact you if we have questions regarding your submission.

To submit your comment online, go to http://www.regulations.gov, type the docket number in the “SEARCH” box and click “SEARCH.” Click on “Submit a Comment” on the line associated with this rulemaking.

If you submit your comments by mail or hand delivery, submit them in an unbound format, no larger than 8½ by 11 inches, suitable for copying and electronic filing. If you submit comments by mail and would like to know that they reached the Facility, please enclose a stamped, self-addressed postcard or envelope. We will consider all comments and material received during the comment period and may change the rule based on your comments.

2. Viewing Comments and Documents

To view comments, as well as documents mentioned in this preamble as being available in the docket, go to http://www.regulations.gov, type the docket number in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

3. Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

4. Public Meeting

We do not now plan to hold a public meeting. But you may submit a request for one using one of the four methods specified under ADDRESSES. Please explain why one would be beneficial. If we determine that one would aid this rulemaking, we will hold one at a time and place announced by a later notice in the Federal Register. For information on facilities or services for individuals with disabilities or to request special assistance at the public meeting, contact Mr. Eric Washburn at the telephone number or email address indicated under the FOR FURTHER INFORMATION CONTACT section of this notice.

Regulatory and History Information

On November 14, 2011, we published a notice of proposed rulemaking (NPRM) entitled Drawbridge Operation Regulation; Black River, La Crosse, Wisconsin, in Federal Register (76 FR 70384). We received no comment letters on the rule. On November 29, 2011, we held a public meeting, at which no objections were presented against the rule. Although no comments were received, it has been determined to be in the interest of local recreational boating public to enact this test deviation and gauge its effects on waterway users during the peak navigation season. If no comments are received during this deviation period, it is anticipated a permanent rule change will be enacted.

Basis and Purpose

The Canadian Pacific Railroad Drawbridge crosses the Black River at Mile 1.0 near La Crosse, Wisconsin. Its drawspan provides 15 feet of vertical clearance in the closed-to-navigation position and 49 feet of vertical clearance in the open-to-navigation position.

The bridge currently operates under 33 CFR 117.1081; opening on demand following a two-hour advance notification. This bridge has operated under the current regulation since 2002.

As explained and proposed in the NPRM, in order to reduce wait time for requested drawbridge openings while also reducing operating costs, Canadian Pacific requested this drawbridge be operated where vessels contact a remote drawbridge operator via VHF-FM Channel 16 or telephone (507) 895-6087. Mariners establish radio or telephone communications and request an opening. The remote operator ensures no trains are in the block and then opens the drawspan. Once opened to navigation it remains raised until the remote operator verifies safe vessel passage. This verification is conducted by radio or telephone confirmation with the passing vessel, video monitoring, and boat detection equipment.

The temporary deviation period will start 12:01 a.m. on June 15, 2012 through 11:59 p.m. on July 15, 2012. During this time the drawspan will be opened on demand by a remote operator.

This temporary deviation has been coordinated with waterway users. No objections were received. There are no alternate routes for vessels transiting this section of the Black River.

In accordance with 33 CFR 117.35(e), the drawbridge must return to its regular operating schedule immediately at the end of the designated time period. This temporary deviation from the operating regulations is authorized under 33 CFR 117.35.

Dated: May 7, 2012.
Eric A. Washburn,
Bridge Administrator, Western Rivers.

[FR Doc. 2012-12229 Filed 5-18-12; 8:45 am]

BILLING CODE 9110-04-P